ENVIRONMENTAL PROTECTION AGENCY

[ER-FRL-9010-9]

Environmental Impacts Statements; Notice of Availability

Responsible Agency: Office of Federal Activities, General Information (202) 564-7146 or http://www.epa.gov/compliance/nepa/.

Weekly receipt of Environmental Impact Statements

Filed 08/26/2013 Through 08/30/2013

Pursuant to 40 CFR 1506.9.

Notice

Section 309(a) of the Clean Air Act requires that EPA make public its comments on EISs issued by other Federal agencies. EPA's comment letters on EISs are available at: http://www.epa.gov/compliance/nepa/eisdata.html

EIS No. 20130256, Draft Supplement, USFWS, CA, Coachella Valley Multiple Species Habitat Conservation Plan and Natural Community Conservation Plan, Comment Period Ends: 10/21/2013, Contact: Ken Corey 760-322-2070.

EIS No. 20130257, Final EIS, BLM, NV, Winnemucca District Proposed Resource Management Plan, Review Period Ends: 10/07/2013, Contact: Zwaantje Rorex 775-623-1727.

EIS No. 20130258, Final EIS, USFS, WI, Lakewood Southeast Project, Review Period Ends: 10/15/2013, Contact: Marilee Houtler 715-276-6333

EIS No. 20130259, Final EIS, FTA, MD, Purple Line Draft Section 4(f) Evaluation, Review Period Ends: 10/07/2013, Contact: Daniel Koenig 202-219-3528.

EIS No. 20130260, Draft EIS, BIA, NV, Moapa Solar Energy Center, Comment Period Ends: 10/14/2013, Contact: Amy Heuslein 602-379-7650

EIS No. 20130261, Draft Supplement, NPS, CA, Golden Gate National Recreation Area Draft Dog Management Plan, Comment Period Ends: 12/04/2013, Contact: Michael B. Edwards 303-969-2694.

EIS No. 20130262, Final EIS, USCG, NY, ADOPTION—Kosciuszko Bridge Project, Queens, Kings and Queens Counties, NY, Contact: Gary Kassof 212-668-7021.

The U.S. Coast Guard has adopted the U.S. Department of Transportation's Federal Highway Administration FEIS #20080517, filed 12/10/2008 with the USEPA. The USCG was a cooperating agency to the project. Recirculation of the EIS is not necessary under 1506.3(c) of the CEQ Regulations.

Amended Notices

EIS No. 20130223, Draft EIS, USACE, MO, St. Johns Bayou and New Madrid Floodway Project, Comment Period Ends: 11/25/2013, Contact: Joshua Koontz 901-544-3975.

Revision to FR Notice Published on 07/26/2013; Extending Comment Period from 09/09/2013 to 11/25/2013.

Dated: September 3, 2013.
Cliff Rader,
Director, NEPA Compliance Division, Office of Federal Activities.

[FR Doc. 2013-21793 Filed 9-5-13; 8:45 am]

BILLING CODE 6560-50-P